DEPARTMENT OF THE INTERIOR

National Park Service

[NPS-WASO-NAGPRA-NPS0035451; PPWOCRADN0-PCU00RP14.R50000]

Notice of Intent To Repatriate Cultural Items: Museum of Fine Arts, Boston, MA

AGENCY: National Park Service, Interior.

ACTION: Notice.

SUMMARY: In accordance with the Native American Graves Protection and Repatriation Act (NAGPRA), the Museum of Fine Arts, Boston (MFA) intends to repatriate certain cultural items that meet the definition of unassociated funerary objects and that have a cultural affiliation with the Indian Tribes or Native Hawaiian organizations in this notice. The cultural items were removed from a site between Matamoras and Dingman's Ferry in Pike County, Pennsylvania.

DATES: Repatriation of the cultural items in this notice may occur on or after April 10, 2023.

ADDRESSES: Julia McCarthy, Interim Director of Collections, Museum of Fine Arts Boston, 465 Huntington Avenue, Boston, MA 02115, telephone (617) 369-3499, email jmccarthy@mfa.org.

SUPPLEMENTARY INFORMATION: This notice is published as part of the National Park Service's administrative responsibilities under NAGPRA. The determinations in this notice are the sole responsibility of the MFA. The National Park Service is not responsible for the determinations in this notice. Additional information on the determinations in this notice, including the results of consultation, can be found in the summary or related records held by the MFA.

Description

The 11 cultural items were removed in 1962 from the property of Marie Zimmermann, located between Matamoras and Dingman's Ferry, in Pike County, Pennsylvania. The site was excavated by Lenape Chapter 12 of the Society for Pennsylvania Archaeology. During these excavations, 22 Native American graves were uncovered. The objects listed in this notice were kept by an amateur archeologist working at the site. His widow sold them to a New Jersey dealer who, in turn, sold them to the MFA in 1993.

The 11 unassociated funerary objects are seven earthenware vessels (MFA accession nos. 1993.611-1993.616 and 1993.621), two earthenware pipes (1993.617-1993.618), one stone bowl (1993.619), and one stone plumb bob (1993.620). They have been dated to about A.D. 1340 based on their appearance.

Cultural Affiliation

The cultural items in this notice are connected to one or more identifiable earlier groups, tribes, peoples, or cultures. There is a relationship of shared group identity between the identifiable earlier groups, tribes, peoples, or cultures and one or more Indian Tribes or Native Hawaiian organizations. The following types of information were used to reasonably trace the relationship: archeological, geographical, and historical.

Determinations

Pursuant to NAGPRA and its implementing regulations, and after consultation with the appropriate Indian Tribes and Native Hawaiian organizations, the MFA has determined that:

• The 11 cultural items described above are reasonably believed to have been placed with or near individual human remains at the time of death or later as part of the death rite or ceremony and are believed, by a preponderance of the evidence, to have been removed from a specific burial site of a Native American individual.

• There is a relationship of shared group identity that can be reasonably traced between the cultural items and the Delaware Nation, Oklahoma; Delaware Tribe of Indians; and the Stockbridge Munsee Community, Wisconsin.

Requests for Repatriation

Additional, written requests for repatriation of the cultural items in this notice must be sent to the Responsible Official identified in ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after April 10, 2023. If competing requests for repatriation are received, the MFA must determine the most appropriate requestor prior to repatriation. Requests for joint repatriation of the cultural items are considered a single request and not competing requests. The MFA is responsible for sending a copy of this notice to the Indian Tribes identified in this notice.

Authority: Native American Graves Protection and Repatriation Act, 25 U.S.C. 3003, and the implementing regulations, 43 CFR 10.8, § 10.10, and § 10.14.

Dated: March 1, 2023.
Melanie O'Brien,
Manager, National NAGPRA Program.

[FR Doc. 2023-04901 Filed 3-9-23; 8:45 am]

BILLING CODE 4312-52-P